DEPARTMENT OF ENERGY

Federal Energy Regulatory Commission

[Docket No. RP01-437-000]

Chandeleur Pipe Line Company; Notice of Tariff Filing

June 6, 2001.

Take notice that on May 31, 2001, Chandeleur Pipe Line Company (Chandeleur) tendered for filing as part of its FERC Gas Tariff, Second Revised Volume No. 1, the following tariff sheets, to become effective July 1, 2001.

First Revised Sheet No. 7

Second Revised Sheet No. 8

First Revised Sheet No. 11

Fifth Revised Sheet No. 19B

Second Revised Sheet No. 27

Second Revised Sheet No. 28

Fifth Revised Sheet No. 29

Second Revised Sheet No. 44

Third Revised Sheet No. 45

Second Revised Sheet No. 51

Third Revised Sheet No. 52

Fourth Revised Sheet No. 66

Chandeleur asserts that the purpose of this filing is to include, in its tariff, provisions relating to Chandeleur's authority to enter into operational balancing agreements (OBAs) at points of interconnection on its system and to clarify certain language relating to the nominating, confirming, scheduling, curtailing and balancing of gas as it might relate to such OBA provisions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14693 Filed 6-11-01; 8:45 am]

BILLING CODE 6717-01-M